DEPARTMENT OF STATE

[Public Notice 8421]

Notice of Information Collection Under Emergency Review: Medical History and Examination for Foreign Service DS-1843 and DS-1622

ACTION: Notice of request for emergency OMB approval.

SUMMARY: The Department of State has submitted the information collection request described below to the Office of Management and Budget (OMB) for review and approval in accordance with the emergency review procedures of the Paperwork Reduction Act of 1995. The purpose of this notice is to allow for public comment from all interested individuals and organizations. Emergency review and approval of this collection has been requested from OMB immediately. If granted, the emergency approval is only valid for 180 days.

ADDRESSES: Direct any comments on this emergency request to the Department of State Desk Officer in the Office of Information and Regulatory Affairs at the Office of Management and Budget (OMB).

You may submit comments to OMB by the following methods:

• Email: oira_submission@omb.eop.gov. You must include the DS form number, information collection title, and OMB control number in the subject line of your message.

• Fax: 202-395-5806. Attention: Desk Officer for Department of State.

DATES: During the first 60 days of the emergency approval period, a regular review of this information collection is also being undertaken. The Department of State requests written comments and suggestions from the public and affected agencies concerning this proposed collection of information. The Department will accept comments up to October 15, 2013.

ADDRESSES: You may submit comments by any of the following methods:

• Web: Persons with access to the Internet may use the Federal Docket Management System (FDMS) to comment on this notice by going to www.Regulations.gov. You can search for the document by entering “Public Notice 8421” in the Search bar. If necessary, use the Narrow by Agency filter option on the Results page.

• Email: summerssb@state.gov.

• Mail: U.S. Department of State, Office of Medical Services, Medical Clearance Section, SA-1 Room L-201, 2401 E Street NW., Washington, DC 20522-0101.

You must include the DS form number (if applicable), information collection title, and OMB control number in any correspondence.

FOR FURTHER INFORMATION CONTACT: Direct requests for additional information regarding the collection listed in this notice, including requests for copies of the proposed collection instrument and supporting documents, to Susan B. Summers, Chief of Medical Clearances, SA-15A, who may be reached on 703-875-5413 or summerssb@state.gov.

SUPPLEMENTARY INFORMATION:

• Title of Information Collection: Medical History and Examination for Foreign Service.

• OMB Control Number: 1405-0068.

• Type of Request: Emergency Review.

• Originating Office: M/MED/MC.

• Form Number: DS-1843, DS-1622.

• Respondents: Foreign Service candidates who have been given provisional offers of employment and other individuals who participate in the Department of State's Medical Program.

• Estimated Number of Respondents: 23,245.

• Estimated Number of Responses: 23,245.

• Average Time per Response: 1 Hour.

• Total Estimated Burden Time: 23,245 Hours.

• Frequency: Once after conditional offer of employment, and, during the employment of the member of the Foreign Service, at intervals between assignments abroad.

• Obligation to respond: Mandatory.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

Pursuant to the Foreign Service Act of 1980, as amended, the Secretary of State has the authority to establish a Medical Program, and the information at issue is collected in accordance with 22 U.S.C. 4084, 3901, and 3984. The information collected in Form DS-1843 is needed to determine whether a candidate for a Foreign Service appointment can obtain the medical clearance that is a requirement of the appointment. Additionally, the information collected in Form DS-1843 and Form DS-1622 is used to provide and to update medical clearances for individuals who participate in the Medical Program.

Methodology:

After the individual and his or her health care provider complete the form, it can be faxed or scanned and emailed to MEDMR@state.gov.

Dated: August 6, 2013.
Susan B. Summers,
Chief Medical Clearance Section, Office of Medical Services, Department of State.

[FR Doc. 2013-20127 Filed 8-15-13; 8:45 am]

BILLING CODE 4710-35-P